DEPARTMENT OF HOMELAND SECURITY

Coast Guard

33 CFR Part 117

[Docket No. USCG-2012-0853]

Drawbridge Operation Regulations; Pequonnock River, Bridgeport, CT, Maintenance

AGENCY: Coast Guard, DHS.

ACTION: Notice of temporary deviation from regulations.

SUMMARY: The Commander, First Coast Guard District, has issued a temporary deviation from the regulation governing the operation of the Metro North (Peck) Bridge across the Pequonnock River, mile 0.3, at Bridgeport, Connecticut. The deviation allows the bridge to remain in the closed position to facilitate electrical repairs.

DATES: This deviation is effective from October 1, 2012 through October 31, 2012.

ADDRESSES: Documents mentioned in this preamble as being available in the docket are part of docket USCG-2012-0853 and are available online at www.regulations.gov, inserting USCG-2012-0853 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, telephone (212) 668-7165, email judy.k.leung-yee@uscg.mil. If you have questions on viewing the docket, call Renne V. Wright, Program Manager, Docket Operations, telephone 202-366-9826.

SUPPLEMENTARY INFORMATION: The Metro North (Peck) Bridge, across the Pequonnock River, mile 0.3, at Bridgeport, Connecticut, has a vertical clearance in the closed position of 26 feet at mean high water and 32 feet at mean low water. The drawbridge operation regulations are listed at 33 CFR 117.219(b).

The waterway users are recreational vessels and commercial lobster boats. The Metro North (Peck) Bridge rarely opens for vessel traffic. The bridge has received no requests to open during the past two years except for bridge testing and repairs.

The operator of the bridge, Metro North Railroad, requested a temporary deviation from the regulations to facilitate scheduled bridge maintenance, miter rail repair, at the bridge. The Coast Guard previously granted a temporary deviation (77 FR 40266) to Metro North in effect from July 9, 2012 through September 30, 2012 to facilitate bridge repairs; however, the bridge repair work will not be completed by the end of September as planned due to various scheduling issues.

As a result of the above information, a second temporary deviation was requested by Metro North to facilitate completion of the repairs at the bridge.

Under this temporary deviation the Metro North (Peck) Bridge may remain in the closed position from October 1, 2012 through October 31, 2012.

There are no alternate routes available to marine traffic. Vessels that can pass under the bridge in the closed position may do so at all times. The bridge can be opened in the event of an emergency.

The waterway users were advised of the requested bridge closure and offered no objection.

In accordance with 33 CFR 117.35(e), the bridge must return to its regular operating schedule immediately at the end of the designated time period. This deviation from the operating regulations is authorized under 33 CFR 117.35.

Dated: September 12, 2012.
Gary Kassof,
Bridge Program Manager, First Coast Guard District.

[FR Doc. 2012-23435 Filed 9-21-12; 8:45 am]

BILLING CODE 9110-04-P